FEDERAL MARITIME COMMISSION

46 CFR Part 515

[Docket No. 13-05]

RIN 3072-AC44

Amendments to Regulations Governing Ocean Transportation Intermediary Licensing and Financial Responsibility Requirements, and General Duties

AGENCY: Federal Maritime Commission.

ACTION: Advance Notice of Proposed Rulemaking; Extension of Comment Period.

SUMMARY: The Federal Maritime Commission proposes to amend its rules governing the licensing, financial responsibility requirements and duties of Ocean Transportation Intermediaries. The proposed rule is intended to adapt to changing industry conditions, improve regulatory effectiveness, improve transparency, streamline processes and reduce regulatory burdens. The Commission received requests and for a 60-day extension from the National Customs Brokers and Forwarders Association of America Inc., supported by the Transportation Intermediaries Association and from the Pacific Coast Council of Customs Brokers and Freight Forwarders Association, Inc. The Commission determined to grant a 30-day extension of time.

DATES: Comments on the Advanced Notice of Proposed Rulemaking, published on May 31, 2013 (78 FR 32946), are due on or before August 30, 2013.

ADDRESSES: Address all comments concerning this proposed rule to: Karen V. Gregory, Secretary, Federal Maritime Commission, 800 North Capitol Street NW., Washington, DC 20573-0001, Phone: (202) 523-5725, Email: secretary@fmc.gov.

FOR FURTHER INFORMATION CONTACT: James Nussbaumer, Deputy Director, Bureau of Certification & Licensing, Federal Maritime Commission, 800 North Capitol Street NW., Washington, DC 20573-0001, Tel.: (202) 523-5787, Email: BCLMaritime@fmc.gov.

Karen V. Gregory,
Secretary.

[FR Doc. 2013-17192 Filed 7-17-13; 8:45 am]

BILLING CODE 6730-01-P